DEPARTMENT OF HEALTH AND HUMAN SERVICES

National Institutes of Health

Center for Scientific Review; Amended Notice of Meeting

Notice is hereby given of a change in the meeting of the Center for Scientific Review Special Emphasis Panel, October 31, 2006, 8 a.m. to November 1, 2006, 5 p.m., National Institutes of Health, 6701 Rockledge Drive, Bethesda, MD 20892 which was published in the Federal Register on October 16, 2006, 71 FR 60744-60746.

The meeting will be held October 31, 2006, 7 a.m. to November 2, 2006, 7 a.m. The meeting location remains the same. The meeting is closed to the public.

Dated: October 18, 2006.
Anna Snouffer,
Acting Director, Office of Federal Advisory Committee Policy.

[FR Doc. 06-8879 Filed 10-24-06; 8:45 am]

BILLING CODE 4140-01-M